NATIONAL FOUNDATION FOR THE ARTS AND HUMANITIES

Museums and Libraries Engaging America's Youth: Study of IMLS Funded Grants, Submission for OMB Review, Comment Request

AGENCY: Institute of Museum and Library Services.

ACTION: Submission to OMB for Review, Comment Request.

SUMMARY: The Institute of Museum and Library Services announces the following information collection has been submitted to the Office of Management and Budget for review and approval in accordance with the Paperwork Reduction Act of 1995 (Pub. L. 104-13, 44 U.S.C. Chapter 35). A copy of this proposed form, with applicable supporting documentation, may be obtained by calling the Institute of Museum and Library Services, Director of Research and Technology, Rebecca Danvers at (202) 652-4680. Individuals who use a telecommunications device for the deaf (TTY/TDD) may call (202) 606-8636. This study is to undertake an analysis of programs that provided services to youth at museums, libraries, schools, and universities and which were funded by IMLS between 1998 and 2003 in order to identify trends of museum and library services in this area; examine the impact and effectiveness of such programs; and identify and disseminate information on the best practices of such programs.

DATES: Comments must be received by May 1, 2006. The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

ADDRESSES: For a copy of the form contact: Rebecca Danvers, Director of Research and Technology, Institute of Museum and Library Services, 1800 M St., NW., 9th floor, Washington, DC 200366.

SUPPLEMENTARY INFORMATION:

I. Background

The Institute of Museum and Library Services is an independent Federal grant-making agency authorized by the Museum and Library Services Act, Public Law 104-208, as amended. The IMLS provides a variety of grant programs to assist the nation's museums and libraries in improving their operations and enhancing their services to the public. Museums and libraries of all sizes and types may receive support from IMLS programs.

The Museum and Library Services Act includes a strong emphasis on encouraging and assisting museums in their educational role as core providers of learning and in conjunction with schools, families, and communities, and strengthening library services to the public. This study will assist IMLS in understanding the design, implementation, impact, and effectiveness of youth-oriented projects that it has funded. A final report will be widely disseminated to assist practitioners and prospective grant applicants to design effective youth programs.

Public Law 104-208 enacted on September 30, 1996, as amended, contains the Library Services and Technology Act and the Museum Services Act.

Public Law 104-208 authorizes the Director of the Institute of Museum and Library Services to carry out and publish analyses that shall identify national needs for, and trends of, museum and library services; report on the impact and effectiveness of programs conducted with funds made available by the Institute, and identify, and disseminate information on the best practices of such programs.

This study is to undertake an analysis of programs that provided services to youth at museums, libraries, schools, and universities and which were funded by IMLS between 1998 and 2003 in order to identify trends of museum and library services in this area; examine the impact and effectiveness of such programs; and identify and disseminate information on the best practices of such programs.

Agency: Institute of Museum and Library Services.

Title: Museum and Libraries Engaging America's Youth Study.

OMB Number: None.

Agency Number: 3137.

Frequency: Once.

Affected Public: Museums, libraries, schools and universities that provided services to youth with IMLS funding.

Number of Respondents: 382 plus 60 interviews.

Estimated Time Per Respondent: Various.

Total Burden Hours: 182.8 hours.

Total Annualized capital/startup costs: n/a.

Total Annual Costs: $5783.00.

FOR FURTHER INFORMATION CONTACT: Comments should be sent to Office of Information and Regulatory Affairs, Attn.: OMB Desk Officer for Education, Office of Management and Budget, Room 10235, Washington, DC 20503; (202) 395-7316.

Dated: March 24, 2006.
Rebecca Danvers,
Director Research and Technology.

[FR Doc. 06-3056 Filed 3-29-06; 8:45 am]

BILLING CODE 7036-01-M